DEPARTMENT OF LABOR

Office of Workers' Compensation Programs

20 CFR Parts 718 and 725

RIN 1240-AA04

Regulations Implementing the Byrd Amendments to the Black Lung Benefits Act: Determining Coal Miners' and Survivors' Entitlement to Benefits; Correction

AGENCY: Office of Workers' Compensation Programs, Labor.

ACTION: Final rule; correction.

SUMMARY: The Office of Workers' Compensation Programs is correcting the preamble to a final rule implementing amendments to the Black Lung Benefits Act that appeared in the Federal Register of September 25, 2013 (78 FR 59102). The preamble incorrectly stated that the Office of Information and Regulatory Affairs of the Office of Management and Budget had reviewed the rule under Executive Order 12866. This document corrects that error and changes the contact information.

DATES: Effective October 25, 2013.

FOR FURTHER INFORMATION CONTACT: Carol A. Campbell, Acting Deputy Director, Division of Coal Mine Workers' Compensation, Office of Workers' Compensation Programs, U.S. Department of Labor, 200 Constitution Avenue NW., Suite C-3520, Washington, DC 20210. Telephone: (202) 343-5933 (this is not a toll-free number). TTY/TDD callers may dial toll-free 1-800-877-8339 for further information.

SUPPLEMENTARY INFORMATION: In the preamble to the final rule titled “Regulations Implementing the Byrd Amendments to the Black Lung Benefits Act: Determining Coal Miners' and Survivors' Entitlement to Benefits” published in the Federal Register of September 25, 2013, the following corrections are made:

1. On page 59102, the information in the FOR FURTHER INFORMATION CONTACT section has changed as set forth above.

2. On page 59112, in the third column, remove the last paragraph of Section V of the Supplementary Information section and add, in its place, the following:

“The Office of Information and Regulatory Affairs of the Office of Management and Budget has waived review of this rule under Executive Order 12866.”

Dated: September 25, 2013.
Gary A. Steinberg,
Acting Director, Office of Workers' Compensation Programs.

[FR Doc. 2013-23928 Filed 10-1-13; 8:45 am]

BILLING CODE P